DEPARTMENT OF HEALTH AND HUMAN SERVICES

Office of the Secretary

Office of Minority Health; Notice of a Cooperative Agreement with The National Alliance for Hispanic Health.

AGENCY: Office of the Secretary, Office of Minority Health.

ACTION: Notice of a Cooperative Agreement with The National Alliance for Hispanic Health.

The Office of Minority Health (OMH), Office of Public Health and Science, announces its intent to continue support of the umbrella cooperative agreement with The National Alliance for Hispanic Health (Alliance), formerly known as the National Coalition of Hispanic Health and Human Services Organizations. This cooperative agreement will continue the broad programmatic framework in which specific projects can be supported by various governmental agencies during the project period.

The purpose of this cooperative agreement is to support the efforts of the Alliance in expanding and enhancing its activities relevant to education, health promotion, disease prevention, and family and youth violence prevention, with the ultimate goal of improving the health status of minorities and disadvantaged people.

The OMH will provide technical assistance and oversight as necessary for the implementation, conduct, and assessment of the project activities. On an as-needed basis, OMH will assist in arranging consultation from other government agencies and non-government agencies.

Authority

This cooperative agreement is authorized under Section 1707(e)(1) of the Public Health Service Act, as amended.

Background

Assistance will continue to be provided to the Alliance. During the last five years, the Alliance has successfully demonstrated the ability to work with health agencies on mutual education, service, and research endeavors. The Alliance is uniquely qualified to continue to accomplish the purposes of this cooperative agreement because it has the following combination of factors:

• It has developed, expanded, and managed an infrastructure to coordinate and implement various medical intervention programs within local communities and physician groups that deal extensively with Hispanic health issues. The Alliance has also established several oversight committees that provide a foundation upon which to develop, promote, and manage health intervention, education, and training programs which are aimed at preventing and reducing unnecessary morbidity and mortality among most minority population.

• It has established itself and its members as an organization with professionals who serve as leaders and experts in planning, developing, implementing, and evaluating health education, prevention, and promotion programs aimed at reducing excessive mortality and adverse health behaviors among Hispanic communities.

• It has developed databases and directories of health services, health care accessibility issues, and professional development initiatives that deal exclusively with Hispanic populations that are necessary for any intervention dealing with this minority population.

• It has assessed and evaluated the current education, research, and disease prevention and health promotion activities for its members, affiliated groups, and represented sub-populations.

• It has developed a coalition whose members are all predominately minority health care professionals and providers with excellent professional performance records.

• It has developed a base of critical knowledge, skills, and abilities related to serving Hispanic clients with a range of health and social problems. Through the collective efforts of its members, its affiliated community-based organizations, sponsored research, and sponsored health education and prevention programs, the Alliance has demonstrated (1) the ability to work with academic institutions and health agencies on mutual education, service, and research endeavors relating to the goal of disease prevention and health promotion of minorities and disadvantaged peoples, (2) the leadership necessary to attract minority students into public health careers, and (3) the leadership needed to assist health care professionals to work more effectively with Hispanic clients and communities, as well as other minority populations.

This cooperative agreement will be continued for an additional five-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: May 8, 2000.
Nathan Stinson, Jr.,
Deputy Assistant Secretary for Minority Health.

[FR Doc. 00-12184 Filed 5-15-00; 8:45 am]

BILLING CODE 4160-17-M